DEPARTMENT OF COMMERCE

International Trade Administration

University of Colorado, et al.; Notice of Decision on Applications for Duty-Free Entry of Scientific Instruments

This is a decision pursuant to Section 6(c) of the Educational, Scientific, and Cultural Materials Importation Act of 1966 (Pub. L. 89-651, as amended by Pub. L. 106-36; 80 Stat. 897; 15 CFR part 301). Related records can be viewed between 8:30 a.m. and 5 p.m. in Room 3720, U.S. Department of Commerce, 14th and Constitution Ave, NW., Washington, DC.

Docket Number: 11-009. Applicant: University of Chicago Argonne, LLC., Lemont, IL 60439-4873. Instrument: Electrode Coater. Manufacturer: A-Pro Co., Ltd., South Korea. Intended Use: See notice at 76 FR 11200, March 1, 2011. Comments: None received. Decision: Approved. We know of no instruments of equivalent scientific value to the foreign instruments described below, for such purposes as this is intended to be used, that was being manufactured in the United States at the time of its order. Reasons: This instrument is unique in that it is semi-automated and suitable for a laboratory environment, and specially tailored for lithium-ion electrodes.

Docket Number: 11-010. Applicant: University of Wisconsin-Madison, Madison, WI 53706. Instrument: Vitrobot Mark IV. Manufacturer: FEI Company, the Netherlands. Intended Use: See notice at 76 FR 11200, March 1, 2011. Comments: None received. Decision: Approved. We know of no instruments of equivalent scientific value to the foreign instruments described below, for such purposes as this is intended to be used, that was being manufactured in the United States at the time of its order. Reasons: This instrument is unique in following ways: the instrumental parameters must be computer controlled and enable storing of parameter protocols, including humidity, blotting time and pressure, and equilibration time; mitigation of errors must be derived from the handling of TEM grids including loading, application of sample, plunging, and transfer to storage by automating some of these tasks; and sample blotting must be done automatically with user controlled programmable blot times and pressures.

Docket Number: 11-011. Applicant: National Superconducting Cyclotron Laboratory (NSCL) at Michigan State University. Instrument: Differential Plunger Device. Manufacturer: Institut fur Kernphysik-Universitat zu koln (Cologne University), Germany. Intended Use: See notice at 76 FR 1120, March 1, 2011. Comments: None received. Decision: Approved. We know of no instruments of equivalent scientific value to the foreign instruments described below, for such purposes as this is intended to be used, that was being manufactured in the United States at the time of its order. Reasons: The instrument is specific to the research in level lifetime measurements of rare isotopes.

Docket Number: 11-014. Applicant: Purdue University, West Lafayette, IN 47907. Instrument: Vibration Test System-Shaker in Trunion with Matching Amplifier and Cooling Blower. Manufacturer: TIRA, Germany. Intended Use: See notice at 76 FR 11200, March 1, 2011. Comments: None received. Decision: Approved. We know of no instruments of equivalent scientific value to the foreign instruments described below, for such purposes as this is intended to be used, that was being manufactured in the United States at the time of its order. Reasons: Unique features of this instrument include its arbitrary excitation angle, large frequency, force, displacement range and spectral output purity. It is also unique in that it included the ability to rotate to varying degrees.

Docket Number: 11-017. Applicant: University of Chicago Argonne, LLC, Lemont, IL 60439. Instrument: Electron Guns for Caribu EBIS Charge Breeder. Manufacturer: Budker Institute of Nuclear Physics, Russia. Intended Use: See notice at 76 FR 11200, March 1, 2011. Comments: None received. Decision: Approved. We know of no instruments of equivalent scientific value to the foreign instruments described below, for such purposes as this is intended to be used, that was being manufactured in the United States at the time of its order. Reasons: The main requirement to the EBIS charge breeder is its high efficiency and long maintenance free operational period.

Dated: April 8, 2011.
Gregory W. Campbell,
Director, Subsidies Enforcement Office, Import Administration.

[FR Doc. 2011-9109 Filed 4-13-11; 8:45 am]

BILLING CODE 3510-DS-P